PEACE CORPS

Information Collection Request; Submission for OMB Review

AGENCY: Peace Corps.

ACTION: 60-day notice and request for comments.

SUMMARY: The Peace Corps will be submitting the following information collection request to the Office of Management and Budget (OMB) for review and approval. In accordance with the Paperwork Reduction Act of 1995 and implementing OMB guidance, we are requesting comments on this collection from all interested individuals and organizations. The purpose of this notice is to allow 60 days for public comment in the Federal Register preceding submission to OMB.

DATES: Submit comments on or before January 6, 2021.

ADDRESSES: Address written comments and recommendations for the proposed information collection to Virginia Burke, FOIA/Privacy Act Officer, by email at pcfr@peacecorps.gov. Email comments must be made in text and not in attachments.

FOR FURTHER INFORMATION CONTACT: Virginia Burke, FOIA/Privacy Act Officer, at (202) 692-1887, or PCFR@peacecorps.gov.

SUPPLEMENTARY INFORMATION: Title: Expedited Evacuee Re-entry Application.

OMB Control Number: 0420-0571.

Type of Request: Revision/New.

Affected Public: Individuals.

Respondents Obligation to Reply: Voluntary.

Respondents: Potential and current volunteers.

Burden to the Public:

• Expedited Evacuee Re-entry Application Form

(a) Estimated number of Applicants/physicians: 7,000.

(b) Frequency of response: One time.

(c) Estimated average burden per response: 15 minutes.

(d) Estimated total reporting burden: 1,750.

(e) Estimated annual cost to respondents: 0.00.

General Description of Collection: The information collected by the Expedited Evacuee Re-entry Application is used by the Peace Corps to collect essential information from individual applicants who previously served as Peace Corps Volunteers. The information is used by the Peace Corps Office of VRS in its assessment of an individual's qualifications to serve as a Peace Corps Volunteer. It is designed to offer the Evacuee RPCV an efficient means of re-applying to the Peace Corps. Selection for Peace Corps service is based on that assessment. This is a modification of traditional application form that is still in use, PC-1502, OMB Control Number 0420-0005. The information in the re-entry application will be used by VRS staff to evaluate the qualifications of RPCV applicants and to make selection decisions, including reassigning the RPCV to the evacuated service site.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on December 2, 2020.
Virginia Burke,
FOIA/Privacy Act Officer, Management.

[FR Doc. 2020-26863 Filed 12-4-20; 8:45 am]

BILLING CODE 6051-01-P